DEPARTMENT OF ENERGY

Federal Energy Regulatory Commission

[Project No. 13815-000]

Renew Hydro, LLC; Notice of Preliminary Permit Application Accepted for Filing and Soliciting Comments, Motions To Intervene, and Competing Applications

October 15, 2010.

On July 13, 2010, Renew Hydro, LLC filed an application for a preliminary permit, pursuant to section 4(f) of the Federal Power Act, proposing to study the feasibility of the Boonton Reservoir Dam and Conduit Project, located on the Rockaway River, in Parsippany-Troy Hills, New Jersey. The sole purpose of a preliminary permit, if issued, is to grant the permit holder priority to file a license application during the permit term. A preliminary permit does not authorize the permit holder to perform any land-disturbing activities or otherwise enter upon lands or waters owned by others without the owners' express permission.

The proposed project would consist of two developments, the Boonton Reservoir Dam Development and the Boonton Conduit Development, as described below.

The Boonton Reservoir Dam Development would consist of the following: (1) The Jersey City Municipal Utilities Authority's existing 115-foot-high, 2,150-foot-long concrete gravity dam, with 500-foot-long earth embankments on each abutment; (2) a 30-foot-high, 3,200-foot-long existing Parsippany Dike; (3) the existing Boonton reservoir with an 825-acre surface area and a 28,200 acre-foot storage area at a normal surface elevation of 307 feet mean sea level; (4) an existing masonry intake structure with trash rakes; (5) two existing 48-inch-diameter pipes; (6) a new powerhouse containing two generating units with a combined capacity of 1,800 kilowatts (kW); (7) two new 4-foot-wide, 15-foot-long tailrace pipes; (8) a 200-foot-long, 12.42/7.2-kilovolt (kV) transmission line from the powerhouse to an existing valve house; (9) a 1,000-foot-long, 12.42/7.2-kV transmission line from the powerhouse to the Township of Boonton's Waste Treatment Plant's control room; and (10) a 400-foot-long, 12.42/7.2-kV transmission line from the valve house to a pumping station. The proposed Boonton Reservoir Dam Development would have an average annual generation of 7.19 gigawatt-hours.

The Boonton Conduit Development would consist of the following: (1) An existing 9-foot-diameter, 0.5-mile-long, aqueduct from Boonton Reservoir Dam to the Jersey City Water Treatment Plant; (2) two 48-inch-diameter modified conduits; (3) an existing valve house converted to a new powerhouse containing two generating units with a total capacity of 500 kW; (4) a 300-foot-long, 12.42/7.2-kV transmission line. The proposed Boonton Conduit Development would have an average annual generation of 2.14 gigawatt-hours.

The proposed developments would have a total combined average annual generation of 9.33 gigawatt-hours.

Applicant Contact: Paul V. Nolan, Esquire, 5515 North 17th Street, Arlington, VA, 22205; phone: (703) 534-5509.

FERC Contact: Timothy Konnert, (202) 502-6359.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13815-000) in the docket number field to access the document. For assistance, contact FERC Online Support.

Kimberly D. Bose,
Secretary.

[FR Doc. 2010-26689 Filed 10-21-10; 8:45 am]

BILLING CODE 6717-01-P